DEPARTMENT OF HEALTH AND HUMAN SERVICES

Decision To Evaluate a Petition To Designate a Class of Employees From Metals & Controls Corp. in Attleboro, Massachusetts, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from Metals & Controls Corp. in Attleboro, Massachusetts, to be included in the Special Exposure Cohort under the Energy Employees Occupational Illness Compensation Program Act of 2000.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Authority: 42 CFR 83.9-83.12.

Pursuant to 42 CFR 83.12, the initial proposed definition for the class being evaluated, subject to revision as warranted by the evaluation, is as follows:

Facility: Metals & Controls Corp.

Location: Attleboro, Massachusetts.

Job Titles and/or Job Duties: All Facilities Construction & maintenance workers including Lubrication/Oilers, Industrial Pipefitters, Engineering Technicians (Mechanical, Electrical, Structural), Maintenance Supervisors, Electricians, Plumbers, Millwrights, Carpenters, Instrumentation Technicians, Chemical Handlers, Waste Treatment Operators, and Production Workers to include Machine Operators/Helpers, and Repair & Maintenance (commonly called R&M) workers.

Period of Employment: January 1, 1968 through March 21, 1997.

John Howard,
Director, National Institute for Occupational Safety and Health.

[FR Doc. 2016-28480 Filed 11-25-16; 8:45 am]

BILLING CODE 4163-19-P